DEPARTMENT OF THE INTERIOR

Bureau of Land Management

[ID-075-03-1330-EO]

Notice of Availability of Supplemental Mine and Reclamation Plan, North Rasmussen Ridge Mine, and Associated Draft Environmental Impact Statement, Caribou County, ID

AGENCY: Bureau of Land Management, Interior.

ACTION: Notice of availability of Draft Environmental Impact Statement (DEIS).

SUMMARY: In accordance with Section 202 of the National Environmental Policy Act of 1969, a Draft Environmental Impact Statement has been prepared for the Supplemental Mine and Reclamation Plan for the North Rasmussen Ridge phosphate mine, Caribou County, Idaho. The Environmental Impact Statement was prepared to assess the impacts of implementing the Supplemental Mine and Reclamation Plan, and to disclose those impacts to the public and the lead agency decision-maker. The DEIS analyzes the potential impacts related to the expansion of mining at Agrium's North Rasmussen Ridge Mine in southeast Idaho. The Proposed Action includes developing two mine pits and a haul road. Use of existing support and transportation systems would continue. Existing operations at the Central Rasmussen Ridge Mine were approved in a 1997 Record of Decision. This environmental analysis reviews potential impacts from selenium and updates the previous impact analyses for other resources. Alternatives to the Proposed Action are also analyzed and site-specific mitigation measures developed.

DATES: Written comments on the DEIS will be accepted for 60 days following the date the Environmental Protection Agency publishes the Notice of Availability in the Federal Register.

ADDRESSES: Written comments should be sent to the Pocatello Field Office Manager, BLM, 1111 N. 8th Avenue, Pocatello, Idaho 83201, or e-mailed to ID_Nrasmussen_EIS@blm.gov. Our practice is to make comments, including names and home addresses of respondents, available for public review during regular business hours. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: To request a copy of the document, please call (208) 478-6353, or write or e-mail Mr. Wendell Johnson, BLM Pocatello Field Office, 1111 North 8th Avenue, Pocatello, Idaho 83201, or e-mail ID_NRasmussen_EIS@blm.gov.

SUPPLEMENTARY INFORMATION: The agency Preferred Alternative is the Proposed Action because it disturbs the least acreage of the action alternatives and all waste material is backfilled to the pits. In addition to the Proposed Action of continuing mining along the strike of the ore while backfilling previously mined-out pits, two additional alternatives are being considered. Alternative 1 is similar to the proposed alternative, but includes impermeable capped backfilled wastes. Alternative 2 is described as the No-Action Alternative and would not allow mineral extraction to occur on the approved leases.

The BLM believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft EIS stage but that are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 60-day comment period for the draft EIS so that substantive comments and objections are made available to the BLM at a time when it can meaningfully consider and respond to them in the final EIS.

Phil Damon,
Field Office Manager.

[FR Doc. 03-5303 Filed 3-6-03; 8:45 am]

BILLING CODE 4310-GG-P